DEPARTMENT OF ENERGY

Federal Energy Regulatory Commission

[Docket No. EC00-134-000, et al.]

Mesquite Investors, L.L.C., et al. Electric Rate and Corporate Regulation Filings

September 15, 2000.

Take notice that the following filings have been made with the Commission:

1. Mesquite Investors, L.L.C.; Juniper Generation, L.L.C.; Sandy Creek Power, L.L.C.; SJC Cogen, L.L.C.; WCAC Cogen California, L.L.C.; San Joaquin Cogen, L.L.C.; SJC/CNGE San Joaquin Investors, Ltd.; and San Joaquin Cogen Limited

[Docket No. EC00-134-000]

Take notice that on September 7, 2000, pursuant to section 203 of the Federal Power Act, 16 U.S.C. 824b (1998) and Part 33 of the Regulations of the Federal Energy Regulatory Commission (Commission), 18 CFR 33 et seq., Mesquite Investors, L.L.C. Juniper Generation, L.L.C., San Joaquin Cogen, L.L.C., SJC/CNGE San Joaquin Investors, Ltd., San Joaquin Cogen Limited (collectively, Applicants) filed an Application for Commission approval for a proposed internal corporate reorganization.

Comment date: September 28, 2000, in accordance with Standard Paragraph E at the end of this notice.

2. Exelon Generation Company, L.L.C.; PECO Energy Company; Commonwealth Edison Company; Horizon Energy Company; AmerGen Energy Company, L.L.C.; AmerGen Vermont, LLC; Unicom Power Marketing, Inc.; Unicom Energy, Inc.

[Docket No. ER00-3251-001; ER99-1872-003; ER98-1734-003; ER98-380-013; ER99-754-005; ER00-1030-002; ER97-3954-013; and ER00-2429-002]

Take notice that on September 13, 2000, Exelon Generation Company, L.L.C., PECO Energy Company, Commonwealth Edison Company, Horizon Energy Company, AmerGen Energy Company, L.L.C., AmerGen Vermont, LLC, Unicom Power Marketing, Inc., and Unicom Energy, Inc., tendered for filing a Supplement to the Application of Exelon Generation Company For Market-based Rate Authority and Application of Exelon Corporation Subsidiaries and Affiliates for Other Forms of Relief under section 205 of the Federal Power Act.

Comment date: October 4, 2000, in accordance with Standard Paragraph E at the end of this notice.

3. Sithe Energies, Inc. and the Sithe Stockholders; Exelon (Fossil) Holdings, Inc.; PECO Energy Company; Exelon Generation Company, L.L.C.

[Docket No. EC00-138-000]

Take notice that on September 13, 2000, Sithe Energies, Inc., and its stockholders, Exelon (Fossil) Holdings, Inc., PECO Energy Company and Exelon Generation Company, L.L.C. (together, the Applicants) submitted for filing, pursuant to section 203 of the Federal Power Act (FPA), and part 33 of the Commission's Regulations, an application seeking authorization from the Commission to transfer an indirect interest in certain facilities subject to the Commission's jurisdiction under section 203 of the FPA from Sithe Energies, Inc. and its stockholders, to Exelon (Fossil) Holdings, Inc. These facilities are generator leads, generator step-up transformers, market-based rate schedules and wholesale power sales agreements now held by certain direct and indirect subsidiaries of Sithe Energies, Inc.

Comment date: October 12, 2000, in accordance with Standard Paragraph E at the end of this notice.

4. North American Electric Reliability Council and North American Electric Reliability Council

[Docket Nos. ER00-2077-000 ER00-2077-001; ER00-1666-000]

Take notice that on September 12, 2000, the North American Electric Reliability Council (NERC) filed a motion for an extension of its Market ReDispatch Pilot Program from December 31, 2000 to December 31, 2001. NERC also notified the Commission that, effective October 17, 2000, it expects to implement new definitions, previously approved by the Commission, to its Transmission Loading Relief levels.

Comment date: October 3, 2000, in accordance with Standard Paragraph E at the end of this notice.

5. New York State Electric & Gas Corporation

[Docket No. OA97-571-002]

Take notice that on September 12, 2000, New York State Electric & Gas Corporation filed a compliance filing in response to the Commission's orders dated February 29, 2000 and July 14, 2000 issued in Docket No. OA97-571-000.

Comment date: October 16, 2000, in accordance with Standard Paragraph E at the end of this notice.

6. New York State Electric & Gas Corporation

[Docket No. ER00-3640-000]

Take notice that on September 13, 2000, New York State Electric & Gas Corporation (NYSEG), tendered for filing pursuant to Part 35 of the Federal Energy Regulatory Commission's Regulations, 18 CFR 35, service agreements (the Service Agreements) under which NYSEG may provide capacity and/or energy to Merrill Lynch Capital Services, Inc. (Merrill Lynch) and AES Eastern Energy, L.P. (AES Eastern) in accordance with NYSEG's FERC Electric Tariff, Original Volume No. 3.

NYSEG has requested waiver of the notice requirements so that the Service Agreements become effective as of September 14, 2000. NYSEG has served copies of the filing upon the New York State Public Service Commission, Merrill Lynch, and AES Eastern.

Comment date: October 4, 2000, in accordance with Standard Paragraph E at the end of this notice.

7. The Dayton Power and Light Company

[Docket No. ER00-3641-000]

Take notice that on September 13, 2000, The Dayton Power and Light Company (DP&L), tendered for filing a Wholesale Market Based Rate Tariff and a pro forma Service Agreement.

DP&L seeks an effective date of September 15, 2000 for all of the tariff sheets submitted with this filing.

DP&L states that its Wholesale Market Based Rate Tariff, and pro forma Service Agreement, are being filed in order to conform to a pro forma tariff prepared by a group of representatives from various segments of the electric industry and to facilitate a standardized master power purchase and sale agreement. DP&L states that it does not propose to eliminate either its currently effective market-based Power Sales Tariff accepted for filing in Docket No. ER96-2602-000.

Copies of this filing have been sent to the Public Utilities Commission of Ohio.

Comment date: October 4, 2000, in accordance with Standard Paragraph E at the end of this notice.

8. Indianapolis Power & Light Company

[Docket No. ER00-3642-000]

Take notice that on September 13, 2000, Indianapolis Power & Light Company (IPL), tendered for filing service agreements executed under IPL's Open Access Transmission Tariff and an index of customers.

Comment date: October 4, 2000, in accordance with Standard Paragraph E at the end of this notice.

9. Cinergy Services, Inc.

[Docket No. ER00-3643-000]

Take notice that on September 13, 2000, Cinergy Services, Inc. (Cinergy), tendered for filing a Service Agreement under Cinergy's Resale, Assignment or Transfer of Transmission Rights and Ancillary Service Rights Tariff (the Tariff) entered into between Cinergy and Public Service Electric and Gas Company (Public). This Service Agreement has been executed by both parties and is to replace the existing unexecuted Service Agreement.

Comment date: October 4, 2000, in accordance with Standard Paragraph E at the end of this notice.

10. Cinergy Services, Inc.

[Docket No. ER00-3644-000]

Take notice that on September 12, 2000, Cinergy Services, Inc. (Cinergy), tendered for filing a Service Agreement under Cinergy's Resale, Assignment or Transfer of Transmission Rights and Ancillary Service Rights Tariff (the Tariff) entered into between Cinergy and MIECO Inc., (MIECO). This Service Agreement has been executed by both parties and is to replace the existing unexecuted Service Agreement.

Comment date: October 4, 2000, in accordance with Standard Paragraph E at the end of this notice.

11. Cinergy Services, Inc.

[Docket No. ER00-3645-000]

Take notice that on September 13, 2000, Cinergy Services, Inc. (Cinergy), tendered for filing a Service Agreement under Cinergy's Resale, Assignment or Transfer of Transmission Rights and Ancillary Service Rights Tariff (the Tariff) entered into between Cinergy and The Dayton Power and Light Company (Dayton). This Service Agreement has been executed by both parties and is to replace the existing unexecuted Service Agreement.

Comment date: October 4, 2000, in accordance with Standard Paragraph E at the end of this notice.

12. Cinergy Services, Inc.

[Docket No. ER00-3646-000]

Take notice that on September 13, 2000, Cinergy Services, Inc. (Cinergy) and EnerZ Corporation tendered for filing Notice of Cancellation effective May 1, 2000, of Service Agreement No. 188, under Cinergy Operating Companies, Cost-Based Power Sales Tariff—CB, FERC Electric Tariff Original Volume No. 6.

Cinergy requests an effective date of May 1, 2000.

Comment date: October 4, 2000, in accordance with Standard Paragraph E at the end of this notice.

13. Cinergy Services, Inc.

[Docket No. ER00-3647-000]

Take notice that on September 13, 2000, Cinergy Services, Inc. (Cinergy), tendered for filing a Service Agreement under Cinergy's Resale, Assignment or Transfer of Transmission Rights and Ancillary Service Rights Tariff (the Tariff) entered into between Cinergy and Ameren Services Company (Ameren). This Service Agreement has been executed by both parties and is to replace the existing unexecuted Service Agreement.

Comment date: October 4, 2000, in accordance with Standard Paragraph E at the end of this notice.

14. Cinergy Services, Inc.

[Docket No. ER00-3648-000]

Take notice that on September 13, 2000, Cinergy Services, Inc. (Cinergy) and El Paso Power Services Company, a predecessor Company of El Paso Merchant Energy, L.P., tendered for filing Notice of Cancellation effective September 5, 2000, of Service Agreement No. 181, under Cinergy Operating Companies, Cost-Based Power Sales Tariff—CB, FERC Electric Tariff Original Volume No. 6.

Cinergy requests an effective date of September 5, 2000.

Comment date: October 4, 2000, in accordance with Standard Paragraph E at the end of this notice.

15. Cinergy Services, Inc.

[Docket No. ER00-3649-000]

Take notice that on September 12, 2000, Cinergy Services, Inc. (Cinergy) and Eastex Power Marketing, Inc., a predecessor Company of El Paso Merchant Energy, L.P., tendered for filing Notice of Cancellation effective September 5, 2000 of Service Agreement No. 109, under Cinergy Operating Companies, Cost-Based Power Sales Tariff—CB, FERC Electric Tariff Original Volume No. 6.

Cinergy requests an effective date of September 5, 2000.

Comment date: October 4, 2000, in accordance with Standard Paragraph E at the end of this notice.

16. Cinergy Services, Inc.

[Docket No. ER00-3650-000]

Take notice that on September 13, 2000, Cinergy Services, Inc. (Cinergy), tendered for filing a Service Agreement under Cinergy's Resale, Assignment or Transfer of Transmission Rights and Ancillary Service Rights Tariff (the Tariff) entered into between Cinergy and Alpena Power Company (Alpena). This Service Agreement has been executed by both parties and is to replace the existing unexecuted Service Agreement.

Comment date: October 4, 2000, in accordance with Standard Paragraph E at the end of this notice.

17. Cinergy Services, Inc.

[Docket No. ER00-3651-000]

Take notice that on September 13, 2000, Cinergy Services, Inc. (Cinergy), tendered for filing a Service Agreement under Cinergy's Resale, Assignment or Transfer of Transmission Rights and Ancillary Service Rights Tariff (the Tariff) entered into between Cinergy and Tennessee Power Company (TPC). This Service Agreement has been executed by both parties and is to replace the existing unexecuted Service Agreement.

Comment date: October 4, 2000, in accordance with Standard Paragraph E at the end of this notice.

18. Cinergy Services, Inc.

[Docket No. ER00-3652-000]

Take notice that on September 13, 2000, Cinergy Services, Inc. (Cinergy) and Sonat Power Marketing L.P., a predecessor Company of El Paso Merchant Energy, L.P., tendered for filing Notice of Cancellation effective September 5, 2000, of Service Agreements No. 126, under Cinergy Operating Companies, Market-Based Power Sales Tariff—MB, FERC Electric Tariff Original Volume No. 7.

Cinergy requests an effective date of September 5, 2000.

Comment date: October 4, 2000, in accordance with Standard Paragraph E at the end of this notice.

19. Cinergy Services, Inc.

[Docket No. ER00-3653-000]

Take notice that on September 13, 2000, Cinergy Services, Inc. (Cinergy) and Eastex Power Marketing, Inc., a predecessor Company of El Paso Merchant Energy L.P., tendered for filing Notice of Cancellation effective September 5, 2000, of Service Agreement No. 109, under Cinergy Operating Companies, Market-Based Power Sales Tariff—MB, FERC Electric Tariff Original Volume No. 7.

Cinergy requests an effective date of September 5, 2000.

Comment date: October 4, 2000, in accordance with Standard Paragraph E at the end of this notice.

20. Cinergy Services, Inc.

[Docket No. ER00-3654-000]

Take notice that on September 13, 2000, Cinergy Services, Inc. (Cinergy) and Sonat Power Marketing L.P., a predecessor Company of El Paso Merchant Energy, L.P., tendered for filing Notice of Cancellation effective September 5, 2000, of Service Agreements No. 126, under Cinergy Operating Companies, Cost-Based Power Sales Tariff—CB, FERC Electric Tariff Original Volume No. 6.

Cinergy requests an effective date of September 5, 2000.

Comment date: October 4, 2000, in accordance with Standard Paragraph E at the end of this notice.

21. Cinergy Services, Inc.

[Docket No. ER00-3655-000]

Take notice that on September 13, 2000, Cinergy Services, Inc. (Cinergy) and El Paso Power Services Company, a predecessor Company of El Paso Merchant Energy, L.P. tendered for filing Notice of Cancellation effective September 5, 2000, of Service Agreement No. 184, under Cinergy Operating Companies, Market-Based Power Sales Tariff—MB, FERC Electric Tariff Original Volume No. 7.

Cinergy requests an effective date of September 5, 2000.

Comment date: October 4, 2000, in accordance with Standard Paragraph E at the end of this notice.

22. Cinergy Services, Inc.

[Docket No. ER00-3656-000]

Take notice that on September 13, 2000, Cinergy Services, Inc. (Cinergy) and Sonat Power Marketing, Inc., a predecessor Company of El Paso Merchant Energy, L.P., tendered for filing Notice of Cancellation effective September 5, 2000, of Service Agreements No. 93, under Cinergy Operating Companies, Market-Based Power Sales Tariff —MB, FERC Electric Tariff Original Volume No. 7.

Cinergy requests an effective date of September 5, 2000.

Comment date: October 4, 2000, in accordance with Standard Paragraph E at the end of this notice.

23. Cinergy Services, Inc.

[Docket No. ER00-3657-000]

Take notice that on September 13, 2000, Cinergy Services, Inc. (Cinergy) and Sonat Power Marketing, Inc., a predecessor Company of El Paso Merchant Energy, L.P., tendered for filing Notice of Cancellation effective September 5, 2000 of Service Agreement No. 93, under Cinergy Operating Companies, Cost-Based Power Sales Tariff—CB, FERC Electric Tariff Original Volume No. 6.

Cinergy requests an effective date of September 5, 2000.

Comment date: October 4, 2000, in accordance with Standard Paragraph E at the end of this notice.

24. Cinergy Services, Inc.

[Docket No. ER00-3658-000]

Take notice that on September 13, 2000, Cinergy Services, Inc. (Cinergy) and EnerZ Corporation tendered for filing Notice of Cancellation effective May 1, 2000 of Service Agreement No. 191, under Cinergy Operating Companies, Market-Based Power Sales Tariff—MB, FERC Electric Tariff Original Volume No. 7.

Cinergy requests an effective date of May 1, 2000.

Comment date: October 4, 2000, in accordance with Standard Paragraph E at the end of this notice.

25. Cinergy Services, Inc.

[Docket No. ER00-3659-000]

Take notice that on September 13, 2000, Cinergy Services, Inc. (Cinergy), tendered for filing a Service Agreement under Cinergy's Resale, Assignment or Transfer of Transmission Rights and Ancillary Service Rights Tariff (the Tariff) entered into between Cinergy and Morgan Stanley Capital Group Inc. (Morgan). This Service Agreement has been executed by both parties and is to replace the existing unexecuted Service Agreement.

Comment date: October 4, 2000, in accordance with Standard Paragraph E at the end of this notice.

26. Avista Corporation

[Docket No. ER00-3660-000]

Take notice that on September 13, 2000, Avista Corporation, tendered for filing with the Federal Energy Regulatory Commission pursuant to Section 35.12 of the Commissions regulations, 18 CFR Part 35.12, an executed Mutual Netting Agreement to be assigned Rate Schedule FERC No. 284, Original Sheet Nos. 1-4, with PPL Montana, LLC effective July 11, 2000.

Notice of the filing has been served upon PPL Montana, LLC.

Comment date: October 4, 2000, in accordance with Standard Paragraph E at the end of this notice.

27. Consumers Energy Company

[Docket No. ER00-3662-000]

Take notice that on September 13, 2000, Consumers Energy Company (Consumers), tendered for filing a Service Agreement with Split Rock Energy L.L.C., (Customer) under Consumers FERC Electric Tariff No. 9 for Market Based Sales. Consumers requested that the Agreement be allowed to become effective September 13, 2000.

Copies of the filing were served upon the Customer and the Michigan Public Service Commission.

Comment date: October 4, 2000, in accordance with standard Paragraph E at the end of this notice.

28. Consumers Energy Company

[Docket No. ER00-3664-000]

Take notice that on September 13, 2000, Consumers Energy Company (Consumers), tendered for filing a revised Service Agreement with the City of St. Louis (Customer) for Network Integration Transmission Service (designated First Revised Service Agreement No. 8 under Consumers Energy Company FERC Electric Tariff No. 6). The Revised Service Agreement reflects the terms of Amendment No. 1 to the original Service Agreement which deals with the replacement of direct assignment facilities and the resulting adjustment in the Facilities Usage Fee from $1, 859 to $4,512 per month.

Consumers requests a September 1, 1999 effective date.

Copies of the filing were served upon the Customer and the Michigan Public Service Commission.

Comment date: October 4, 2000, in accordance with Standard Paragraph E at the end of this notice.

29. West Texas Utilities Company

[Docket No. ER00-3665-000]

Take notice that on September 13, 2000, West Texas Utilities Company (WTU), tendered for filing the First Revised Agreement for Sale and Purchase of Power and Associated Energy and Responsive Reserves (First Revised Agreement) between WTU and Brazos Electric Cooperative, Inc., (Brazos). The First Revised Agreement is being filed under WTU's Market-Based Rate Tariff and replaces in its entirety Service Agreement No. 25, currently on file under CSW Operating Companies FERC Electric Tariff, First Revised Volume No. 8. The First Revised Agreement is designated First Revised Service Agreement No. 25.

WTU seeks an effective date of June 15, 2000 and, accordingly, seeks waiver of the Commission's notice requirements.

Copies of the filing have been served on Brazos and on the Public Utility Commission of Texas.

Comment date: October 4, 2000, in accordance with Standard Paragraph E at the end of this notice.

30. Midwest Generation, LLC

[Docket No. ER00-3666-000]

Take notice that on September 13, 2000, Midwest Generation, LLC. (Midwest), tendered for filing a Second Revised Service Agreement No. 1 under Midwest's FERC Electric Tariff, Original Volume No. 1 (the Collins Generating Station Power Purchase Agreement between Commonwealth Edison Company and Midwest).

Comment date: October 4, 2000, in accordance with Standard Paragraph E at the end of this notice.

31. Commonwealth Edison Company

[Docket No. ER00-3668-000]

Take notice that on September 12, 2000, Commonwealth Edison Company (ComEd), tendered for filing an unexecuted Interconnection Agreement with University Park Energy, LLC (University Park) and an executed Letter Agreement with University Park.

ComEd requests an effective date of September 13, 2000 for the Interconnection Agreement and the Letter Agreement and accordingly seeks waiver of the Commission's notice requirements.

Copies of the filing were served on University Park and on the Illinois Commerce Commission.

Comment date: October 4, 2000, in accordance with Standard Paragraph E at the end of this notice.

32. MidAmerican Energy Company

[Docket No. ER00-3669-000]

Take notice that on September 12, 2000, MidAmerican Energy Company (MidAmerican), 666 Grand Avenue, Des Moines, Iowa 50309, tendered for filing with the Commission a First Amended and Restated Interchange Agreement dated February 26, 1997, modified by way of a Second Amendment to First Amended and Restated Interchange Agreement dated May 30, 2000, entered into with the City of Geneseo, Illinois pursuant to its Rate Schedule for Power Sales, FERC Electric Tariff, Original Volume No. 5 (FERC [Docket No. ER96-719-000; amended in FERC [Docket No. ER00-2051-000).

MidAmerican requested and the Director, Division of Tariffs and Rates—Central, approved a June 28, 2000 effective date for the First Amended and Restated Interchange Agreement, as amended, subject to MidAmerican making a compliance filing to conform MidAmerican's previous filing in this matter dated June 27, 2000 to be consistent with the necessary filing rate schedule designations as required by Order 614, FERC Stats. & Regs. ¶ 31,096 (2000) and Southwest Power Pool, Inc., 92 FERC ¶ 61,109 (2000).

MidAmerican has served a copy of the compliance filing on the City of Geneseo, Illinois, the Iowa Utilities Board, the Illinois Commerce Commission and the South Dakota Public Utilities Commission.

Comment date: October 4, 2000, in accordance with Standard Paragraph E at the end of this notice.

33. Commonwealth Edison Company

[Docket No. ER00-3670-000]

Take notice that on September 12, 2000, Commonwealth Edison Company (ComEd), tendered for filing an Interconnection Agreement with Reliant Energy Aurora LP (Reliant).

ComEd requests an effective date of September 13, 2000 and accordingly seeks waiver of the Commission's notice requirements.

Copies of the filing were served on Reliant and the Illinois Commerce Commission.

Comment date: October 4, 2000, in accordance with Standard Paragraph E at the end of this notice.

34. Midwest Generation, LLC

[Docket No. ER00-3230-001]

Take notice that on September 13, 2000, Midwest Generation, LLC tendered for filing in compliance with Order No. 614, a revised amendment to the Collins Generating Station Power Purchase Agreement with Commonwealth Edison Company dated December 15, 1999.

Comment date: October 4, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-24393 Filed 9-21-00; 8:45 am]

BILLING CODE 6717-01-P